FEDERAL COMMUNICATIONS COMMISSION

47 CFR Part 64

[WC Docket No. 16-106; Report No. 3067]

Petitions for Reconsideration of Action in Rulemaking Proceeding

AGENCY: Federal Communications Commission.

ACTION: Petition for reconsideration.

SUMMARY: Petitions for Reconsideration (Petitions) have been filed in the Commission's rulemaking proceeding: Kenneth Gueck, on behalf of Oracle Corporation; Jonathan Banks, on behalf of United States Telecom Association; Thomas C. Power, on behalf of CTIA; Thomas Cohen, on behalf of American Cable Association; Stuart P. Ingis, on behalf Association of National Advertisers et al.; Steven K. Berry, on behalf of Competitive Carriers Association; Julie M. Kearney, on behalf of Consumer Technology Association; Genevieve Morelli, on behalf of ITTA—The Voice of Mid-Size Communications Companies; Brita D. Strandberg, on behalf of Level 3; Rick Chessen, on behalf of NCTA—The Internet & Television Association; and Stephen E. Coran, on behalf of Wireless Internet Service Providers Association.

DATES: Oppositions to the Petitions must be filed on or before March 6, 2017. Replies to an opposition must be filed on or before March 14, 2017.

ADDRESSES: Federal Communications Commission, 445 12th Street SW., Washington, DC 20554.

FOR FURTHER INFORMATION CONTACT: Sherwin Siy, Competition Policy Division, Wireline Competition Bureau, at (202) 418-2783 or email: Sherwin.Siy@fcc.gov.

SUPPLEMENTARY INFORMATION: This is a summary of the Commission's document, Report No. 3067, released January 17, 2017. The full text of the Petitions is available for viewing and copying at the FCC Reference Information Center, 445 12th Street SW., Room CY-A257, Washington, DC 20554. They also may be accessed online via the Commission's Electronic Comment Filing System at http://apps.fcc.gov/ecfs/. The Commission will not send a copy of this document pursuant to the Congressional Review Act, 5 U.S.C. 801(a)(1)(A), because this document does not have an impact on any rules of particular applicability.

Subject: In the Matter of Protecting the Privacy of Customers of Broadband and Other Telecommunications Services, FCC 16-148, published at 81 FR 87274, December 2, 2016, in WC Docket No. 16-106. This document is being published pursuant to 47 CFR 1.429(e). See also 47 CFR 1.4(b)(1) and 1.429(f), (g).

Number of Petitions Filed: 11.

Federal Communications Commission.
Marlene H. Dortch,
Secretary.

[FR Doc. 2017-03228 Filed 2-16-17; 8:45 am]

BILLING CODE 6712-01-P